FEDERAL MARITIME COMMISSION

Notice

The Commission gives notice that it has requested that the parties to the below listed agreement provide additional information pursuant to section 6(d) of the Shipping Act of 1984, 46 U.S.C. app. sections 1701 et seq. The Commission has determined that further information is necessary to evaluate the competitive impact of the proposed agreement. This action prevents the agreement from becoming effective as originally scheduled.

Agreement No.: 011677-002.

Title: United States Australasia Agreement.

Parties: P&O Nedlloyd Limited, Contship Containerlines Limited, CMA CGM, S.A., Australia New Zealand Direct Line, Hamburg-Sudamerikanischedampfschifffahrts-gesellschaft KG (Columbus Line), Wallenius Wilhelmsen Lines AS.

Dated: January 5, 2001.
By Order of the Federal Maritime Commission.
Bryant L. VanBrakle,
Secretary.

[FR Doc. 01-738 Filed 1-9-01; 8:45 am]

BILLING CODE 6730-01-P